ENVIRONMENTAL PROTECTION AGENCY

[EPA-HQ-OPPT-2021-0415; FRL-9392-01-OCSPP]

Science Advisory Committee on Chemicals (SACC); Notice of Public Meeting and Request for Comments on Draft Toxic Substances Control Act (TSCA) Screening Level Approach for Assessing Ambient Air and Water Exposures to Fenceline Communities

AGENCY: Environmental Protection Agency (EPA).

ACTION: Notice.

SUMMARY: There will be a 3-day public peer review virtual meeting of the Science Advisory Committee on Chemicals (SACC) to consider and review the draft EPA TSCA Screening Level Approach for Assessing Ambient Air and Water Exposures to Fenceline Communities Version 1.0. In addition, EPA is announcing the availability of and soliciting public comments on the draft approach, which will be presented as a screening level methodology for assessing potential air and water chemical exposures to fenceline communities.

DATES:

Virtual Public Meeting: Will be held March 15-17, 2022, from 10:00 a.m. to approximately 5:00 p.m. (EDT). See additional details and instructions for registration that appear in Unit III.

Written Comments: Submit your written comments on or before February 22, 2022. As described in Unit III.

Special accommodations: Request special accommodations on or before February 20, 2022, to allow EPA time to process these requests.

ADDRESSES:

Virtual Meeting: As described in Unit III., you must register online to receive the webcast meeting link and audio teleconference information. Please follow the registration instructions that will be announced on the SACC website at https://www.epa.gov/tsca-peer-review by early February 2022.

Written Comments: Submit written comments, identified by docket identification (ID) number EPA-HQ-OPPT-2021-0415, through the Federal eRulemaking Portal at http://www.regulations.gov. Follow the online instructions for submitting comments. Do not electronically submit any information you consider to be Confidential Business Information (CBI) or other information whose disclosure is restricted by statute. Copyrighted material will not be posted without explicit permission of the copyright holder. Members of the public should also be aware that personal information included in any written comments may be posted on the internet at https://www.regulations.gov. Additional information on commenting or visiting the docket, along with more information about dockets generally, is available at https://www.epa.gov/dockets.

Due to public health concerns related to COVID-19, the EPA Docket Center and Reading Room are open to the public by appointment only. For further information on the EPA Docket Center (EPA/DC) services, docket contact information and the current status of the EPA/DC and Reading Room, please visit https://www.epa.gov/dockets. For questions about this docket, you may also contact the Designated Federal Official (DFO) listed under FOR FURTHER INFORMATION CONTACT.

Special accommodations: For information on access or services for individuals with disabilities, and to request accommodation for a disability, please contact the DFO listed under FOR FURTHER INFORMATION CONTACT.

FOR FURTHER INFORMATION CONTACT: Dr. Alaa Kamel, DFO, Office of Chemical Safety and Pollution Prevention (7201M), Environmental Protection Agency, 1200 Pennsylvania Ave. NW, Washington, DC 20460-0001; telephone number: (202) 564-8450; email address: kamel.alaa@epa.gov.

SUPPLEMENTARY INFORMATION:

I. Executive Summary

A. Does this action apply to me?

This action is directed to the public in general. This action may be of interest to persons who are or may be required to conduct testing and those interested in risk evaluations of chemical substances under TSCA. Since other entities may also be interested in this action, the EPA has not attempted to describe all the specific entities that may be affected by this action.

B. Where can I access information about the SACC and this meeting?

Information about the SACC and this meeting is available on the SACC website at https://www.epa.gov/tsca-peer-review and in the docket for this meeting, identified by docket ID number EPA-HQ-OPPT-2021-0415, at https://www.regulations.gov. You may also subscribe to the following listserv for alerts when notices regarding this and other SACC related activities are published at https://public.govdelivery.com/accounts/USAEPAOPPT/subscriber/new?topic_id=USAEPAOPPT.

C. What should I consider as I prepare my comments for EPA?

1. Submitting CBI. Do not submit CBI information to EPA through regulations.gov or email. If your comments contain any information that you consider to be CBI or otherwise protected, please contact the DFO listed under FOR FURTHER INFORMATION CONTACT to obtain special instructions before submitting your comments.

2. Tips for preparing your comments. When preparing and submitting your comments, see Tips for Effective Comments at https://www.epa.gov/dockets.

II. Background

A. What is the purpose of the SACC?

The SACC was established by EPA in 2016 and operates in accordance with the Federal Advisory Committee Act (FACA), 5 U.S.C. Appendix 2 et seq. The SACC provides expert independent scientific advice and consultation to the EPA on the scientific and technical aspects of risk assessments, methodologies, and pollution prevention measures and approaches for chemicals regulated under TSCA.

The SACC is comprised of experts in: Toxicology; Human health and environmental risk assessment; Exposure assessment; and related sciences (e.g., biology, chemistry, pharmacology, biotechnology, nanotechnology, biochemistry, biostatistics, physiologically based pharmacokinetic modelling (PBPK) modeling, computational toxicology, epidemiology, environmental fate, and environmental engineering and sustainability). When needed, the committee members will be assisted in their reviews by consultants with specific expertise in the topics under consideration.

B. What is the purpose of this virtual public meeting?

The purpose of this virtual public meeting of the SACC is to consider and review the draft document entitled “EPA TSCA Screening Level Approach for Assessing Ambient Air and Water Exposures to Fenceline Communities Version 1.0,” which will be presented as a screening level methodology for assessing potential air and water chemical exposures to fenceline communities.

EPA published ten final risk evaluations between 2020 and 2021 under the Toxic Substances Control Act (TSCA) as amended by the Frank R. Lautenberg Chemical Safety for the 21st Century Act in June 2016. During the course of finalizing many of these first 10 risk evaluations, a policy decision was made by the previous Administration that EPA not assess air and water exposure pathways that fall under the jurisdiction of other EPA-administered laws. This policy decision was reversed in June 2021. EPA is presenting Version 1.0 of a screening level methodology for assessing potential air and water pathway chemical exposures to fenceline communities. Along with presenting this methodology, EPA will also present results of applying the screening methodology (case studies) to 1-Brompropane or 1-BP (air pathway), n-methylpyrrolidone or NMP (water pathway), and Methylene Chloride or MC (air and water pathway).

C. How can I access the documents submitted for review to the SACC?

EPA's background documents, related supporting materials, and draft charge questions to the SACC are available in the docket established for this meeting at https://www.regulations.gov; docket ID number EPA-HQ-OPPT-2021-0415 and on the SACC website. In addition, EPA will provide additional background documents (e.g., SACC members and consultants participating in this meeting and the meeting agenda) as the materials become available. You may obtain electronic copies of these documents, and certain other related documents that might be available, in the docket at https://www.regulations.gov and the SACC website at https://www.epa.gov/tsca-peer-review.

After the public meeting, the SACC will prepare meeting minutes summarizing its recommendations to the EPA. The meeting minutes will be posted on the SACC website and in the docket.

III. Public Participation Instructions

To participate in the Exposures to Fenceline Communities virtual public meeting, please follow the instructions in this unit.

A. How can I provide comments for the SACC's consideration?

To ensure proper receipt of comments it is imperative that you identify docket ID No. EPA-HQ-OPPT-2021-0415 in the subject line on the first page of your comments.

1. Written comments. The Agency encourages written comments for this meeting be submitted by the date set in the DATES section of this document and using the additional instructions in ADDRESSES and Unit I.B. and C. and Unit III, of this document. Anyone submitting written comments after this date, should contact the DFO listed under FOR FURTHER INFORMATION CONTACT. If you submit comments after the date set in the DATES section, those comments will be provided to the SACC members, but you should recognize that the SACC members may not have adequate time to consider your written comments prior to their discussion.

2. Oral comments. The Agency encourages each individual or group wishing to make brief oral comments to the SACC during the peer review virtual meeting to please follow the registration instructions that will be announced on the SACC website (https://www.epa.gov/tsca-peer-review) by early February 2022.

Oral comments before the SACC during the peer review virtual meeting are limited to 5 minutes unless arrangements have been made prior to the date set in the DATES section. In addition, each speaker should email a copy of his/her comments to the DFO prior to the meeting for distribution to the SACC.

B. How can I participate in the virtual public meeting?

This meeting is virtual and viewed via webcast. For information on how to first register and then view the webcast, please refer to the SACC website at https://www.epa.gov/tsca-peer-review. EPA intends to announce registration instructions on the SACC website by early February 2022.

Authority: 15 U.S.C. 2601 et seq.

Dated: January 18, 2022.
Michal Freedhoff,
Assistant Administrator, Office of Chemicals Safety and Pollution Prevention.

[FR Doc. 2022-01185 Filed 1-20-22; 8:45 am]

BILLING CODE 6560-50-P